DEPARTMENT OF HOMELAND SECURITY

Transportation Security Administration

[Docket No. TSA-2004-18486]

Privacy Act of 1974: System of Records; Transportation Security Technology Testing System

AGENCY: Transportation Security Administration (TSA), DHS.

ACTION: Notice to alter or establish systems of records; request for comments.

SUMMARY: TSA is establishing one new system of records under the Privacy Act of 1974.

DATES: Comments due on August 2, 2004.

ADDRESSES: Address your comments to the Docket Management System, U.S. Department of Transportation (DOT), Room Plaza 401, 400 Seventh Street, SW., Washington, DC 20590-0001. You must identify the docket number TSA-2004-18486 at the beginning of your comments, and you should submit two copies of your comments. If you wish to receive confirmation that TSA received your comments, include a self-addressed, stamped postcard.

You may also submit comments through the Internet at http://dms.dot.gov. Please be aware that anyone is able to search the electronic form of all comments received into any of these dockets by the name of the individual submitting the comment (or signing the comment, if submitted on behalf of an association, business, labor union, etc.). You may review DOT's complete Privacy Act Statement in the Federal Register published on April 11, 2000 (Volume 65, Number 70; Pages 19477-78) or you may visit http://dms.dot.gov. You may also review the public docket containing comments in person at the Dockets Office between 9 a.m. and 5 p.m., Monday through Friday, except Federal holidays. The Dockets Office is on the plaza level of the NASSIF Building at the Department of Transportation at the above address.

FOR FURTHER INFORMATION CONTACT: Conrad Huygen, Privacy Act Officer, Office of Information Management Programs, TSA Headquarters, TSA-17, 601 S. 12th Street, Arlington, VA 22202-4220; telephone (571) 227-1954; facsimile (571) 227-2906.

SUPPLEMENTARY INFORMATION: TSA is establishing one new system of records under the Privacy Act of 1974, the Transportation Security Technology Testing System (DHS/TSA 016), which will be maintained to document the research, development, and testing of emerging transportation security technologies, to improve access control into transportation facilities and modes of transportation, to improve ticketing and baggage control for passengers and crew, to improve cargo tracking capabilities, and to improve transportation facility security plans.

DHS/TSA 016

System name:

Transportation Security Technology Testing System.

Security classification:

Unclassified.

System locations:

Records will be maintained at TSA Headquarters in Arlington, Virginia, at various TSA field offices, at transportation facilities where technology testing takes place, and at digital safe sites operated by government contractors.

Categories of individuals covered by the system:

TSA employees, contractors, transportation workers, and other individuals who participate in transportation security technology testing programs.

Categories of records in the system:

Records may include (1) individual's name; (2) demographic data to include age, gender, primary language spoken, and ethnicity; (3) administrative identification codes; (4) systems identification codes; (5) company, organization, or affiliation; (6) issue date and other enrollment information; (7) physical descriptors, biometric data, and digital photograph; (8) facility access level information; (9) job title and function; (10) expiration date; and (11) access dates and times.

Authorities for maintenance of the system:

49 U.S.C. 114; 49 U.S.C. 44903; 49 U.S.C. 44912.

Purpose(s):

The records are maintained to document the research, development, and testing of emerging transportation security technologies, to improve access control into transportation facilities and modes of transportation, to improve ticketing and baggage control for passengers and crew, to improve cargo tracking capabilities, and to improve transportation facility security plans.

Routine uses of records maintained in the system, including categories of users and the purposes of such uses:

(1) To the appropriate Federal, State, local, tribal, territorial, foreign, or international agency responsible for investigating, prosecuting, enforcing, or implementing a statute, rule, regulation, or order, where TSA becomes aware of an indication of a violation or potential violation of civil or criminal law or regulation.

(2) To TSA contractors, agents, grantees, experts, consultants, or other like persons when necessary to perform a function or service related to this system of records for which they have been engaged. Such recipients are required to comply with the Privacy Act, 5 U.S.C. 552a, as amended.

(3) To airport operators, aircraft operators, and maritime and land transportation operators about individuals who are their employees, job applicants, or contractors, or persons to whom they issue identification credentials or grant clearances or access to secured areas in transportation facilities when relevant to such employment, application, contract, the issuance of such credentials or clearances, or access to such secure areas.

(4) To a congressional office from the record of an individual in response to an inquiry from that congressional office made at the request of the individual.

(5) To the Department of Justice (DOJ) or other Federal agency in the review, settlement, defense, or prosecution of claims, complaints, and law suits involving matters over which TSA exercises jurisdiction or when conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(6) To the National Archives and Records Administration or other authorized Federal agency in records management inspections being conducted under the authority of 44 U.S.C. 2904 and 2906.

(7) To the United States Department of Transportation, its operating administrations, or the appropriate state or local agency when relevant or necessary to (a) ensure safety and security in any mode of transportation; (b) enforce safety-and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

Policies and practices for storing, retrieving, accessing, retaining, and disposing of records in the system:

Storage:

Paper, bar code, magnetic stripe, optical memory stripe, disk, video, integrated circuit chip, and electronic media.

Retrievability:

Data records contained within bar codes, magnetic stripe, optical memory stripe, disk, video, integrated circuit chip, and/or electronically stored may be retrieved by employee name, unique card number, or other personal identifier; paper records, where applicable, are retrieved alphabetically by name.

Safeguards:

Information in this system is protected from unauthorized access through appropriate administrative, physical and technical safeguards. Unauthorized personnel are denied physical access to the location where records are stored. For computerized records, safeguards are in accordance with generally acceptable information security guidelines via use of security codes, passwords, Personal Identification Numbers (PINs), and other similar safeguards.

Retention and disposal:

Record disposition authority for these records is pending National Archives and Records Administration approval.

System manager(s) and address:

Office of Security Technology and Chief Technology Officer, TSA Headquarters, TSA-20, 601 S. 12th Street, Arlington, VA 22202-4220.

Notification procedure:

To determine if this system contains a record relating to you, write to the system manager at the address indicated above and provide your full name, current address, date of birth, place of birth, and a description of information that you seek, including the time frame during which the record(s) may have been generated. You may also provide your Social Security Number or other unique identifier(s) but you are not required to do so. Individuals requesting access must comply with the Department of Homeland Security's Privacy Act regulations on verification of identity (6 CFR 5.21(d)).

Record access procedure:

Same as “notification procedure,” above.

Contesting record procedure:

Same as “notification procedure,” above.

Record source categories:

TSA obtains information in this system from the individuals who are covered by the system, their employers, or the participating transportation facility.

Exemptions claimed for the system:

None.

Issued in Arlington, Virginia, on June 23, 2004.
Susan T. Tracey,
Chief Administrative Officer.

[FR Doc. 04-14876 Filed 6-30-04; 8:45 am]

BILLING CODE 4910-62-P